DEPARTMENT OF TRANSPORTATION

Research and Special Programs Administration

[RSPA-00-7795]

Pipeline Safety: Meeting of the Integrity Management Communication Team

AGENCY: Research and Special Programs Administration, DOT.

ACTION: Notice of Integrity Management Communication Team Meeting.

SUMMARY: The Research and Special Programs Administration's (RSPA) Office of Pipeline Safety (OPS) hereby gives notice that the Integrity Management Communication Team will meet to discuss the content and delivery of pipeline information to be conveyed to local officials and members of the public in or near high consequence areas.

DATES: The meeting will be held on September 12, 2000.

ADDRESSES: Members of the public may attend the meeting at the Department of Transportation, Nassif Building, 400 Seventh Street, SW, Room 6200 Washington, DC 20590. An opportunity will be provided for the public to make short statements on the topics under discussion. Anyone wishing to make an oral statement or to participate by conference call should notify Mary Jo Cooney, (202) 366-4774, or Christina Sames, (202) 366-4561, no later than September 7, 2000. Those wishing to make an oral statement must notify OPS of the topic of the statement and the time requested for the presentation. Those wishing to participate by conference call will be notified of the call-in number prior to the meeting.

Information on Services for Individuals With Disabilities: For information on facilities or services for individuals with disabilities or to request special assistance during the telephone conference calls, contact Mary-Jo Cooney at (202) 366-4774.

FOR FURTHER INFORMATION CONTACT: Mary Jo Cooney, OPS, (202) 366-4774, or Christina Sames, OPS, (202) 366-4561.

SUPPLEMENTARY INFORMATION:

Background Information

In connection with the proposed rule on Pipeline Integrity Management in High Consequence Areas, OPS plans to propose related rules governing operator communications with local public officials and agencies. To assist in this effort, the OPS Technical Advisory Committees created an Integrity Management Communications Subcommittee to focus on communications issues and to report back to the full Advisory Committee. OPS expanded this Subcommittee to form a team with equal representation from the public, government agencies, and the pipeline industry, and to consolidate several related efforts.

The Team will provide feedback, insight, and information to the Advisory Committee on the content and delivery of information conveyed to local officials and the public about pipeline operations, systems, and the risks they pose in or near high consequence areas. The Advisory Committee will provide pipeline communication recommendations to OPS for consideration in drafting the Integrity Management Communications rulemaking. The Team will also assist OPS in finalizing a primer to educate local officials on pipelines and their operations.

The topics for discussion for this meeting include discussions of the following: Information that is needed by various groups: landowners/tenants along pipeline rights-of-way; local and regional emergency response officials; excavators and the general public; review of existing materials used by pipeline operators for public education; results from a public awareness survey conducted by the American Petroleum Institute and focus groups sponsored by the Interstate Natural Gas Association of America; Office of Pipeline Safety website materials; information currently available under the Freedom of Information Act; and pending pipeline legislative proposals for community right-to-know.

Issued in Washington, DC on August 31, 2000.
Jeffrey D. Wiese,
Manager, Program Development, Office of Pipeline Safety.

[FR Doc. 00-22985 Filed 9-6-00; 8:45 am]

BILLING CODE 4910-60-P